SMALL BUSINESS ADMINISTRATION

[Disaster Declaration #12492 and #12493]

Ohio Disaster #OH-00026

AGENCY: U.S. Small Business Administration.

ACTION: Amendment 1.

SUMMARY: This is an amendment of the Administrative declaration of a disaster for the State of Ohio dated 03/18/2011.

Incident: Severe storms and flooding.

Incident Period: 02/27/2011 through 03/14/2011.

Effective Date: 03/23/2011.

Physical Loan Application Deadline Date: 05/17/2011.

Economic Injury (EIDL) Loan Application Deadline Date: 12/19/2011.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the Administrator's disaster declaration in the State of Ohio, dated 03/18/2011, is hereby amended to establish the incident period for this disaster as beginning 02/27/2011 and continuing through 03/14/2011.

All other information in the original declaration remains unchanged.

(Catalog of Federal Domestic Assistance Numbers 59002 and 59008)

Dated: March 23, 2011.
Karen G. Mills,
Administrator.

[FR Doc. 2011-7663 Filed 3-31-11; 8:45 am]

BILLING CODE 8025-01-P